CORPORATION FOR NATIONAL AND COMMUNITY SERVICE

45 CFR Part 1230

New Restrictions on Lobbying

CFR Correction

In Title 45 of the Code of Federal Regulations, part 1200 to end, revised as of October 1, 2001, Appendix B to part 1230 is correctly revised to read as follows:

Appendix B to Part 1230—Disclosure Form to Report Lobbying

[FR Doc. 02-55525 Filed 10-29-02; 8:45 am]

BILLING CODE 1505-01-D